DEPARTMENT OF COMMERCE

Foreign-Trade Zones Board

[S-24-2019]

Approval of Subzone Status; Adams Warehousing, LLC; Sidney, Nebraska

On February 21, 2019, the Executive Secretary of the Foreign-Trade Zones (FTZ) Board docketed an application submitted by the Lincoln Foreign-Trade Zone, Inc., grantee of FTZ 59, requesting subzone status subject to the existing activation limit of FTZ 59, on behalf of Adams Warehousing, LLC, in Sidney, Nebraska.

The application was processed in accordance with the FTZ Act and Regulations, including notice in the Federal Register inviting public comment (84 FR 6360, February 27, 2019). The FTZ staff examiner reviewed the application and determined that it meets the criteria for approval. Pursuant to the authority delegated to the FTZ Board's Executive Secretary (15 CFR Sec. 400.36(f)), the application to establish Subzone 59D was approved on August 13, 2019, subject to the FTZ Act and the Board's regulations, including Section 400.13, and further subject to FTZ 59's 2,000-acre activation limit.

Dated: August 13, 2019.
Elizabeth Whiteman,
Acting Executive Secretary.

[FR Doc. 2019-17648 Filed 8-15-19; 8:45 am]

BILLING CODE 3510-DS-P